FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
March 1, 2012 Thru March 31, 2012
03/01/2012
20120495 | G | Deutsche Telekom AG; AT&T Inc.; Deutsche Telekom AG.
20120525 | G | Nisshin Seifun Group Inc.; MMMT Holdings Corporation; Nisshin Seifun Group Inc.
20120528 | G | H.I.G. Capital Partners IV. L.P. Compass Group PLC; H.I.G. Capital Partners IV, L.P.
20120535 | G | J.P. Morgan Chase & Co.; Sun Capital Partners IV, LP; J.P. Morgan Chase & Co.
03/02/2012
20120398 | G | Akamai Technologies, Inc.; Cotendo, Inc.; Akamai Technologies, Inc.
20120526 | G | Mr. Aloke Lohia and Mrs. Suchitra Lohia; J. Thomas Hurvis; Mr. Aloke Lohia and Mrs. Suchitra Lohia.
20120532 | G | Nautic Partners VI, L.P.; Superior Vision Holdings, Inc.; Nautic Partners VI, L.P.
20120537 | G | DSW Group Holdings, LLC; The Standard Companies, Inc.; DSW Group Holdings, LLC.
20120539 | G | AltaGas Ltd.; LG Continental LLC; AltaGas Ltd.
20120541 | G | General Atlantic Partners 90, L.P.; Bazaarvoice, Inc.; General Atlantic Partners 90, L.P.
20120544 | G | Wells Fargo & Company; My Alarm Center, LLC; Wells Fargo & Company.
20120547 | G | Aegis Group plc; Geoffrey Cubitt; Aegis Group plc.
20120556 | G | Algonquin Power & Utilities Corp.; National Grid plc; Algonquin Power & Utilities Corp.
20120558 | G | Spartan Parent Holdings Inc.; MDCPVI TU Holdings, LLC; Spartan Parent Holdings Inc.
20120563 | G | Exterran Partners, L.P.; Exterran Holdings, Inc.; Exterran Partners, L.P.
20120564 | G | TPG Partners VI-AIV, L.P.; GlobeOp Financial Services S.A.; TPG Partners VI-AIV, L.P.
03/05/2012
20110692 | S | Western Digital Corporation; Hitachi Ltd.; Western Digital Corporation.
20120548 | G | Aegis Group plc; Jeffrey Maling; Aegis Group plc.
03/06/2012
20120517 | G | Walgreen Co.; BioScrip, Inc.; Walgreen Co.
20120520 | G | BB&T Corporation; C. G. JCF, L.P.; BB&T Corporation.
20120559 | G | Mount Kellett Capital Partners (Cayman), L.P.; The Great Atlantic & Pacific Tea Company; Mount Kellett Capital Partners (Cayman), L.P.
20120571 | G | PPL Corporation; The AES Corporation; PPL Corporation.
03/09/2012
20120540 | G | Elon Musk; SolarCity Corporation; Elon Musk.
20120572 | G | Grupo Elelctra, S.A.B. de C.V.; Advance America, Cash Advance Centers, Inc.; Grupo Elektra, S.A.B. de C.V.
20120578 | G | Linn Energy, LLC; BP p.l.c.; Linn Energy, LLC.
20120580 | G | SandRidge Energy, Inc.; Riverstone/Carlyle Global Energy and Power Fund IV (FT), L.P; SandRidge Energy, Inc.
20120588 | G | George A. Steiner Trust; Palace Laundry, Inc.; George A. Steiner Trust.
03/12/2012
20120565 | G | Energy Capital Partners II-A, LP; The AES Corporation Energy Capital Partners II-A, LP.
20120585 | G | Brazos Equity Fund 11, L.P.; Road Infrastructure Investment Holdings, Inc.; Brazos Equity Fund II, L.P.
20120589 | G | Advanced Micro Devices, Inc.; SeaMicro, Inc.; Advanced Micro Devices, Inc.
20120593 | G | Arkansas Electric Cooperative Corporation; GDF Suez S.A.; Arkansas Electric Cooperative Corporation.
20120596 | G | First Reserve Fund XI, L.P.; Antero Resources LLC; First Reserve Fund XI, L.P.
03/15/2012
20120587 | G | SEACOR Holdings Inc.; Superior Energy Services, Inc.; SEACOR Holdings Inc.
20120590 | G | Warburg Pincus Private Equity X, L.P.; Wicks Communications & Media Partners III, L.P.; Warburg Pincus Private Equity X, L.P.
03/16/2012
20120591 | G | Park-Ohio Holdings Corp.; Sun Capital Partners IV, L.P.; Park-Ohio Holdings Corp.
20120598 | G | Park-Ohio Holdings Corp.; Sun Capital Partners V. L.P.; Park-Ohio Holdings Corp.
20120600 | G | SS&C Technologies Holdings, Inc.; Thomson Reuters Corporation; SS&C Technologies Holdings, Inc.
20120603 | G | Kellogg Company; The Procter & Gamble Company; Kellogg Company.
20120608 | G | DCP Midstream Partners, LP; ConocoPhillips; DCP Midstream Partners, LP.
20120609 | G | DCP Midstream Partners, LP; Spectra Energy Corp.; DCP Midstream Partners, LP.
20120611 | G | Arlon Food and Agriculture Partners LP; Edward Billington and Son, Limited; Arlon Food and Agriculture Partners LP.
20120612 | G | Kelso Investment Associates VIII, L.P.; Quad-C Partners VII, L.P.; Kelso Investment Associates VIII, L.P.
20120613 | G | Arlon Food and Agriculture Partners LP; Imperial Sugar Company; Arlon Food and Agriculture Partners LP.
03/21/2012
20120538 | G | Snow Phipps Group MV, L.P.; Paresh Ghelani; Snow Phipps Group MV, L.P.
20120576 | G | URS Corporation; Flint Energy Services Ltd.; URS Corporation.
20120617 | G | The Andersons, Inc.; Arnaizing Energy Holding Company, LLC; The Andersons, Inc.
20120618 | G | Heckmann Corporation; Goldman Sachs Group, Inc.; Heckmann Corporation.
20120621 | G | EPE Acquisition, LLC; El Paso Corporation; EPE Acquisition, LLC.
03/22/2012
20120602 | G | TA XI L.P.; CyOptics, Inc.; TA XI L.P.
20120610 | G | TowerBrook Investors III, L.P.; HDS Investment Holding, Inc.; TowerBrook Investors III, L.P.
20120623 | G | Levine Leichtman Capital Partners IV, L.P.; Gridiron Capital Fund, L.P.; Levine Leichtman Capital Partners IV, L.P.
03/23/2012
20120494 | G | CCMP Capital Investors II, L.P.; Willis Stein & Partners III, L.P.; CCMP Capital Investors II, L.P.
20120583 | G | eBay Inc.; WHI Solutions, Inc.; eBay Inc.
20120614 | G | Berkshire Hathaway Inc.; Sager Electrical Supply Company, Inc.; Berkshire Hathaway Inc.
20120626 | G | The Bank of Nova Scotia; Poydras Capital, LLC; The Bank of Nova Scotia.
20120627 | G | Wendel SA; Loma International Corporation; Wendel SA.
20120628 | G | Mercer International Inc.; Fibrek Inc.; Mercer International Inc.
20120629 | G | Precision Castparts Corp.; RathGibson Holding Co. LLC; Precision Castparts Corp.
20120630 | G | Audax Private Equity Fund III, L.P.; Brazos Equity Fund III, L.P.; Audax Private Equity Fund III, L.P.
20120632 | G | Ocwen Financial Corporation; Morgan Stanley; Ocwen Financial Corporation.
20120636 | G | Wynnchurch Capital Partners III, L.P.; Mueller Water Products, Inc.; Wynnchurch Capital Partners III, L.P.
20120638 | G | Fertitta Investment LLC; Station Holdco LLC; Fertitta Investment LLC.
03/26/2012
20120569 | G | Glory Limited; Carlyle Europe Partners III, L.P.; Glory Limited.
20120631 | G | Nuance Communications, Inc.; Transcend Services, Inc.; Nuance Communications, Inc.
03/27/2012
20120586 | G | Franz Haniel & Cie. GmbH; G. Thomas Patton, III; Christopher N. Patton; Franz Haniel & Cie. GmbH.
20120649 | G | Howard Midstream Energy Partners, LLC; EnCap Energy Infrastructure Fund, L.P.; Howard Midstream Energy Partners, LLC.
03/28/2012
20120620 | G | Golden Gate Capital Opportunity Fund, L.P.; Infor Enterprise Applications Ltd.; Golden Gate Capital Opportunity Fund, L.P.
03/29/2012
20120648 | G | Mr. Mark Zuckerberg; Mr. Mark Zuckerberg; Mr. Mark Zuckerberg.
03/30/2012
20111374 | G | Humana Inc.; Arcadian Management Services, Inc.; Humana Inc.
20120633 | G | OHI Parent, Inc.; Osmose Holdings, Inc.; OHI Parent, Inc.
20120637 | G | Wellspring Capital Partners V, L.P.; Industrial Growth Partners III, L.P.; L.P.
20120644 | G | MDCP VI-A Global Investments, LP; Pinafore Investment Cooperatief U.A.; MDCP VI-A Global Investments, LP.
20120653 | G | Riverside Capital Appreciation Fund V LP; The Riverstone Group, LLC; Fund V LP.
20120655 | G | Sumitomo Corporation; Midas, Inc.; Sumitomo Corporation.
20120657 | G | The Procter & Gamble Company; New Chapter, Inc.; The Procter & Gamble Company.

For Further Information Contact:

Renee Chapman, Contact Representative, or

Theresa Kingsberry,

Legal Assistant, Federal Trade Commission, Premerger Notification Office, Bureau Of Competition, Room H-303, Washington, DC 20580, (202) 326-3100.

By Direction of the Commission.
Donald S. Clark,
Secretary.

[FR Doc. 2012-8734 Filed 4-12-12; 8:45 am]

BILLING CODE 6750-01-M